FEDERAL FINANCIAL INSTITUTIONS EXAMINATION COUNCIL

[Docket No. AS20-12]

Appraisal Subcommittee; Notice of Meeting

AGENCY: Appraisal Subcommittee of the Federal Financial Institutions Examination Council.

ACTION: Notice of Special Meeting.

Description: In accordance with Section 1104(b) of Title XI of the Financial Institutions Reform, Recovery, and Enforcement Act of 1989, as amended, notice is hereby given that the Appraisal Subcommittee (ASC) will meet in open session for a Special Meeting:

Location: Due to the COVID-19 Pandemic, the meeting will be open to the public via live webcast only. Visit the agency's homepage (www.asc.gov) and access the provided registration link in the What's New box. You MUST register in advance to attend this Meeting.

Date: October 5, 2020.

Time: 1:30 p.m. ET.

Status: Open.

Action and Discussion Items

Notice of Funding Availability (NOFA) Summary for the Appraisal Foundation Grant.

How to Attend and Observe an ASC meeting: Due to the COVID-19 Pandemic, the meeting will be open to the public via live webcast only. Visit the agency's homepage (www.asc.gov) and access the provided registration link in the What's New box. The meeting space is intended to accommodate public attendees. However, if the space will not accommodate all requests, the ASC may refuse attendance on that reasonable basis. The use of any video or audio tape recording device, photographing device, or any other electronic or mechanical device designed for similar purposes is prohibited at ASC meetings.

James R. Park,
Executive Director.

[FR Doc. 2020-21518 Filed 9-28-20; 8:45 am]

BILLING CODE 6700-01-P